DEPARTMENT OF DEFENSE

Office of the Secretary

Defense Science Board

AGENCY: Department of Defense.

ACTION: Notice of Advisory Committee meeting date change.

SUMMARY: On Wednesday, August 28, 2004 (69 FR 52240) the Department of Defense announced closed meetings of the Defense Science Board (DSB) Task Force on Munitions System Reliability. These meetings have been rescheduled from September 21-22, 2004, to September 23-24, 2004. The meetings will be held at SAIC., 4001 N. Fairfax Drive, Arlington, VA.

Dated: September 9, 2004.
L.M. Bynum,
Alternate OSD Federal Register Liaison Officer, Department of Defense.

[FR Doc. 04-20724 Filed 9-14-04; 8:45 am]

BILLING CODE 5001-06-M